DEPARTMENT OF TRANSPORTATION

Federal Aviation Administration

Notice of Intent To Rule on Request To Release Airport Property at the St. George Airport, St. George, Utah

AGENCY: Federal Aviation Administration (FAA), DOT.

ACTION: Notice of request to release airport property.

SUMMARY: The FAA proposes to rule and invite public comment on the release of land at St. George Airport under the provisions of Section 125 of the Wendell H. Ford Aviation Investment Reform Act for the 21st Century (AIR 21), now 49 U.S.C. 47107(h)(2).

DATES: Comments must be received on or before May 27, 2015.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Gary Esplin, City Manager, City of St. George, Utah, at the following address: Mr. Gary Esplin, City Manager, City of St. George, 175 East 200 North, St. George, Utah 84770.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the St. George Airport under the provisions of the AIR 21 (49 U.S.C. 47107(h)(2)).

On April 20, 2015, the FAA determined that the request to release property at the St. George Airport submitted by the City of St. George meets the procedural requirements of the Federal Aviation Administration.

The following is a brief overview of the request:

The City of St. George is proposing the release from the terms, conditions, reservations, and restrictions on the remaining approximate 223 acres of the former airport. A 40 acre parcel of airport property had previously been released by an instrument of release dated June 11, 2013. Physical constraints of the airport site required the construction and opening of the Replacement Airport in 2011, approximately 15 miles to the east. The former St. George Airport was decommissioned on January 15, 2011. The former airport is no longer needed for aviation purposes and the release is to allow for the sale of the property so the proceeds from the sale can be used towards payment of the City's share of the costs associated with the Replacement Airport. The property will be sold as the market improves, at fair market value. Any person may inspect, by appointment, the request in person at the FAA office listed above under FOR FURTHER INFORMATION CONTACT.

In addition, any person may, upon appointment and request, inspect the application, notice and other documents germane to the application in person at the St George Airport.

Issued in Denver, Colorado on April 20, 2015.
John P. Bauer,
Manager, Denver Airports District Office .

[FR Doc. 2015-09759 Filed 4-24-15; 8:45 am]

BILLING CODE 4910-13-P